DEPARTMENT OF TRANSPORTATION

National Highway Traffic Safey Administration

[U.S. DOT Docket Number NHTSA-02-13553]

Reports, Forms, and Record Keeping Requirements

AGENCY: National Highway Traffic Safety Administration, Department of Transportation.

ACTION: Request for public comment on proposed collection of information.

SUMMARY: Before a Federal agency can collect certain information from the public, it must receive approval from the Office of Management and Budget (OMB). Under procedures established by the Paperwork Reduction Act of 1995, before seeking OMB approval, Federal agencies must solicit public comment on proposed collections of information, including extensions and reinstatement of previously approved collections.

This document describes one collection of information for which NHTSA intends to seek OMB approval.

DATES: Comments must be received on or before December 16, 2002.

ADDRESSES: Comments must refer to the docket notice numbers cited at the beginning of this notice and be submitted to Docket Management, Room PL-401, 400 Seventh Street, SW., Washington, DC 20590. Please identify the proposed collection of information for which a comment is provided, by referencing its OMB clearance number. It is requested, but not required, that 2 copies of the comment be provided. The Docket Section is open on weekdays from 9 a.m. to 5 p.m.

FOR FURTHER INFORMATION CONTACT: Complete copies of each request for collection of information may be obtained at no charge from Ronald Filbert NHTSA 400 Seventh Street, SW., 5238, NTI 200,Washington, DC 20590. Mr. Filbert's telephone number is (202) 366-2121. Please identify the relevant collection of information by referring to its OMB Control Number.

SUPPLEMENTARY INFORMATION: Under the Paperwork Reduction Act of 1995, before an agency submits a proposed collection of information to OMB for approval, it must first publish a document in the Federal Register providing a 60-day comment period and otherwise consult with members of the public and affected agencies concerning each proposed collection of information. The OMB has promulgated regulations describing what must be included in such a document. Under OMB's regulation (at 5CFR 1320.8(d), an agency must ask for public comment on the following:

(i) Whether the proposed collection of information is necessary for the proper performance of the functions of the agency, including whether the information will have practical utility;

(ii) the accuracy of the agency's estimate of the burden of the proposed collection of information, including the validity of the methodology and assumptions used;

(iii) how to enhance the quality, utility, and clarity of the information to be collected;

(iv) how to minimize the burden of the collection of information on those who are to respond, including the use of appropriate automated, electronic, mechanical, or other technological collection techniques or other forms of information technology, e.g. permitting electronic submission of responses.

In compliance with these requirements, NHTSA asks for public comments on the following proposed collections of information:

Title: 23 CFR part 1313 Certificate Requirements for Section 410 State Grants for Drunk Driving Prevention Programs.

OMB Control Number: 2127-0501.

Affected Public: State Government.

Form Number: NA.

Abstract: The National Transportation Equity Act for the 21st Century (TEA-21), enacted in 1998, revised the law, altering the criteria to qualify for a grant. On November 18, 1988, President Reagan signed into law the Drunk Driving Prevention Act of 1988 (23 USC 410) establishing a new anti-drunk driving incentive program. The purpose of the grant program is to promote highway traffic safety by encouraging the states to establish certain measures to prevent drinking and driving. It provides grant funds to states that adopt these measures.

The program provides for a two-tier grant system as an incentive to states to implement effective laws and programs to reduce the drunk driving problem. The first tier provides basic grants for those states that comply with specific Programmatic or Performance criteria. The second tier provides supplemental grants for meeting additional traffic safety program criteria.

To establish eligibility for the grants (basic and supplemental), a state must submit to NHTSA documentation demonstrating that it complies with each of the requirements of the rule. Much of the information required for the 410 application is already generated by the states as part of the development of their Section 402 Highway Safety Plan (HSP) or other ongoing impaired driving programs. To keep the reporting burden on the states to a minimum, states prepare and submit their Section 410 plans, that indicate how they intend to use the grant funds, as part of their existing HSP. The required Highway Safety Program Cost Summary Form HS 217, OMB Clearance Number 2127-0003, is currently used by the states to comply with other highway safety grant programs. Consequently, the state is not required under the rule to prepare or fill out new forms or develop a separate process to receive grants under Section 410.

Estimated Annual Burden: 45 hours per respondent per year.

Number of Respondents: all 50 States and the District of Columbia.

Issued on: October 9, 2002.
Marlene Markison,
Chief of Program Resources, Office of Injury Control Operations and Resources.

[FR Doc. 02-26274 Filed 10-15-02; 8:45 am]

BILLING CODE 4910-59-P